DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: Government Performance and Results Act (GPRA) Client/Participant Outcomes Measure—(OMB No. 0930-0208)—Revision

SAMHSA is requesting approval to modify its existing CSAT Client-level GPRA instrument by removing 48 questions and adding 42 questions for a net decrease of six questions. In revising the CSAT-GPRA tool, we sought to improve functionality while also eliciting programmatic information that demonstrates impact at the client level. In this way, data from the revised GPRA tool can be used to assess resource allocation and to delineate who we serve, how we serve them, and how the program impacts clients from entry to discharge. Beyond this, much of the tool has been restructured to make its administration flow with greater ease, while also eliciting information that speaks to a client's experience with substance misuse, the concurrent use of substances and mental health. This is most apparent in Section B (Substance Use and Planned Services), where questions have been updated and restructured to elicit important aspects of a client's use of substances, namely the frequency of use and combinations of misused substances. This speaks to an emerging and urgent need to appropriately manage polysubstance misuse,¹ and the questions allow for evidence of change as the tool is readministered at different intervals. These questions do not rely on ICD-10 codes, so as to create a dialogue between the client and the individual administering the tool. Restructuring the tool has also included:

¹ Substance Abuse and Mental Health Services Administration (SAMHSA): Treating Concurrent Substance Use Among Adults. SAMHSA Publication No. PEP21-06-02-002. Rockville, MD: National Mental Health and Substance Use Policy Laboratory. Substance Abuse and Mental Health Services Administration, 2021.

• Placing many questions from the general GPRA Tool, that have previously been viewed as being specific to patient populations or grants, in the menu items found in Section H. This section allows Program Officers the opportunity to introduce grant specific questions as needed;

• Removing or substantially altering existing questions viewed as being potentially traumatizing or incentive to clients;

• Removing questions that have not been used in program evaluation at the federal level; and

• Incorporating evidence-based questions from tools such as the Addiction Severity Index to better address program performance.

Currently, the information collected from this instrument is entered and stored in SAMHSA's Performance Accountability and Reporting System, which is a real-time, performance management system that captures information on the substance abuse treatment and mental health services delivered in the United States. Continued approval of this information collection will allow SAMHSA to continue to meet Government Performance and Results Modernization Act of 2010 reporting requirements that quantify the effects and accomplishments of its discretionary grant programs, which are consistent with OMB guidance.

SAMHSA will use the data for annual reporting required by GPRA and comparing baseline with discharge and follow-up data. GPRA requires that SAMHSA's fiscal year report include actual results of performance monitoring for the three preceding fiscal years. The additional information collected through this process will allow SAMHSA to: (1) Report results of these performance outcomes; (2) maintain consistency with SAMHSA-specific performance domains, and (3) assess the accountability and performance of its discretionary and formula grant programs.

Table 1—Estimates of Annualized Hour Burden
SAMHSA tool | Number of respondents | Responses per respondent | Total number of responses | Burden hours per response | Total burden hours | Hourly wage ¹ | Total hour cost
Baseline Interview Includes SBIRT Brief TX, Referral to TX, and Program-specific questions | 179,668 | 1 | 179,668 | 0.6 | 107,801 | $24.78 | $2,671,309
Follow-Up Interview with Program-specific questions ² | 143,734 | 1 | 143,734 | 0.6 | 86,240 | 24.78 | 2,137,027
Discharge Interview with Program-specific questions ³ | 93,427 | 1 | 93,427 | 0.6 | 56,056 | 24.78 | 1,389,068
SBIRT Program—Screening Only | 594,192 | 1 | 594,192 | 0.13 | 77,245 | 24.78 | 1,914,131
SBIRT Program—Brief Intervention Only Baseline | 111,411 | 1 | 111,411 | 0.2 | 22,282 | 24.78 | 552,148
SBIRT Program—Brief Intervention Only Follow-Up ² | 89,129 | 1 | 89,129 | 0.2 | 17,826 | 24.78 | 441,728
SBIRT Program—Brief Intervention Only Discharge ³ | 57,934 | 1 | 57,934 | 0.2 | 11,587 | 24.78 | 287,126
CSAT Total | 1,269,495 |  | 1,269,495 |  | 379,037 |  | 9,392,537
¹ The hourly wage estimate is $21.23 based on the Occupational Employment and Wages, Mean Hourly Wage Rate for 21-1011 Substance Abuse and Behavioral Disorder Counselors = $24.78/hr. as of May 11, 2021. (http://www.bls.gov/oes/current/oes211011.htm. Accessed on May 11, 2021.)
² It is estimated that 80% of baseline clients will complete this interview.
³ It is estimated that 52% of baseline clients will complete this interview.
Note: Numbers may not add to the totals due to rounding and some individual participants completing more than one form.

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2022-00857 Filed 1-18-22; 8:45 am]

BILLING CODE 4162-20-P